DEPARTMENT OF HOMELAND SECURITY

Federal Emergency Management Agency

[Docket ID FEMA-2014-0022]

Technical Mapping Advisory Council

AGENCY: Federal Emergency Management Agency, DHS.

ACTION: Committee management; notice of federal advisory committee meeting.

SUMMARY: The Federal Emergency Management Agency (FEMA) Technical Mapping Advisory Council (TMAC) will meet in person on Wednesday, December 11, 2019, and Thursday, December 12, 2019, in Arlington, VA. The meeting will be open to the public.

DATES: The TMAC will meet on Wednesday, December 11, 2019, from 8 a.m.-5:30 p.m. Eastern Daylight Time (EDT), and Thursday, December 12, 2019, from 8 a.m.-5:30 p.m. EDT. Please note that the meeting may close early if the TMAC has completed its business.

ADDRESSES: The meeting will be held at AECOM at 3101 Wilson Blvd., Ste 900, Arlington, VA 22201. Members of the public who wish to attend the meeting must register in advance by sending an email to FEMA-TMAC@fema.dhs.gov (Attention: Michael Nakagaki) by 5 p.m. EDT on Tuesday, December 10, 2019. Members of the public must check in at the front desk of 3101 Wilson Boulevard, Arlington, Virginia 22201 and will be provided with an escort to the meeting room; photo identification is required.

For information on facilities or services for individuals with disabilities, or to request special assistance at the meeting, contact the person listed below by Tuesday, December 10, 2019.

To facilitate public participation, members of the public are invited to provide written comments on the issues to be considered by the TMAC, as listed in the SUPPLEMENTARY INFORMATION section below. Associated meeting materials will be available at www.fema.gov/TMAC for review by Friday, December 6, 2019. Written comments to be considered by the committee at the time of the meeting must be submitted and received by Tuesday, December 10, 2019, identified by Docket ID FEMA-2014-0022, and submitted by one of the following methods:

• Federal eRulemaking Portal: http://www.regulations.gov. Follow the instructions for submitting comments.

• Mail: Regulatory Affairs Division, Office of Chief Counsel, FEMA, 500 C Street SW, Room 8NE, Washington, DC 20472-3100.

Instructions: All submissions received must include the words “Federal Emergency Management Agency” and the docket number for this action. Comments received will be posted without alteration at http://www.regulations.gov, including any personal information provided.

Docket: For docket access to read background documents or comments received by the TMAC, go to http://www.regulations.gov and search for the Docket ID FEMA-2014-0022.

A public comment period will be held on Wednesday, December 11, 2019, from 11:30 a.m. to 12 p.m. EDT and again on Thursday, December 12, 2019, from 11:30 a.m. to 12 p.m. EDT. Speakers are requested to limit their comments to no more than 3 minutes. The public comment period will not exceed 30 minutes. Please note that the public comment period may end before the time indicated, following the last call for comments. Contact the individual listed below to register as a speaker by close of business on Tuesday, December 10, 2019.

FOR FURTHER INFORMATION CONTACT: Michael Nakagaki, Designated Federal Officer for the TMAC, FEMA, 400 C Street SW, Washington, DC 20024, telephone (202) 212-2148, and email FEMA-TMAC@fema.dhs.gov. The TMAC website is: http://www.fema.gov/TMAC.

SUPPLEMENTARY INFORMATION: Notice of this meeting is given under the Federal Advisory Committee Act, 5 U.S.C. App. (Pub. L. 92-463).

In accordance with the Biggert-Waters Flood Insurance Reform Act of 2012, the TMAC makes recommendations to the FEMA Administrator on: (1) How to improve, in a cost-effective manner, the (a) accuracy, general quality, ease of use, and distribution and dissemination of flood insurance rate maps and risk data; and (b) performance metrics and milestones required to effectively and efficiently map flood risk areas in the United States; (2) mapping standards and guidelines for (a) flood insurance rate maps, and (b) data accuracy, data quality, data currency, and data eligibility; (3) how to maintain, on an ongoing basis, flood insurance rate maps and flood risk identification; (4) procedures for delegating mapping activities to State and local mapping partners; and (5) (a) methods for improving interagency and intergovernmental coordination on flood mapping and flood risk determination, and (b) a funding strategy to leverage and coordinate budgets and expenditures across Federal agencies. Furthermore, the TMAC is required to submit an annual report to the FEMA Administrator that contains: (1) A description of the activities of the Council; (2) an evaluation of the status and performance of flood insurance rate maps and mapping activities to revise and update Flood Insurance Rate Maps; and (3) a summary of recommendations made by the Council to the FEMA Administrator.

Agenda: During the first day, TMAC members will review the recommendations developed by each subcommittee. During the second day, the discussion will focus on the memorandum format being used to submit information to FEMA and a vote on the final selection of recommendations. TMAC members will then vote on recommendations for FEMA's consideration in 2020. The TMAC will receive public input on the recommendations. Any related materials will be posted to the FEMA TMAC site prior to the meeting to provide the public an opportunity to review the materials. The full agenda and related meeting materials will be posted for review by Friday, December 6, 2019, at http://www.fema.gov/TMAC.

Michael M. Grimm,
Assistant Administrator for Risk Management, Federal Emergency Management Agency.

[FR Doc. 2019-24882 Filed 11-15-19; 8:45 am]

BILLING CODE 9110-12-P